DEPARTMENT OF COMMERCE

United States Patent and Trademark Office

Submission for OMB Review; Comment Request; “Clearance for the Collection of Qualitative Feedback on Agency Service Delivery”

The United States Patent and Trademark Office (USTPO) will submit to the Office of Management and Budget (OMB) for clearance the following proposal for collection of information under the provisions of the Paperwork Reduction Act (44 U.S.C. Chapter 35).

Agency: United States Patent and Trademark Office, Commerce.

Title: Clearance for the Collection of Qualitative Feedback on Agency Service Delivery.

OMB Control Number: 0651-0038.

Form Number(s): • N/A.

Type of Request: Regular.

Number of Respondents: 27,900.

Average Hours per Response: The USPTO estimates that it will take an average of 11 min (.18 hours) to complete a single item in this collection, with completion times ranging from 5 minutes (.08 hours) to 120 minutes (2 hours), depending upon the instrument used.

Burden Hours: 5,059 hours.

Cost Burden: $0.

Needs and Uses: The Agency will collect, analyze, and interpret information gathered to identify strengths and weaknesses of current services. Based on feedback received, the Agency will identify operational changes needed to improve programs and services. The solicitation of feedback will target areas such as: Timeliness, appropriateness, accuracy of information, courtesy, efficiency of service delivery, and resolution of issues with service delivery. The USPTO is committed to hearing feedback from its customers. Responses will be assessed to identify service areas in need of improvement. If this information is not collected, then the Agency will miss opportunities to obtain vital feedback from their customers and stakeholders on ways to improve their program and services.

These information collections will not result in any new system of records containing privacy information and will not ask questions of a sensitive nature.

Affected Public: Businesses or other for-profits; not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0038 copy request” in the subject line of the message.

• Mail: Marcie Lovett, Records Management Division Director, Office of the Chief Information Officer, United States Patent and Trademark Office, P.O. Box 1450, Alexandria, VA 22313-1450.

Written comments and recommendations for the proposed information collection should be sent on or before July 20, 2015 to Nicholas A. Fraser, OMB Desk Officer, via email to Nicholas_A._Fraser@omb.eop.gov, or by fax to 202-395-5167, marked to the attention of Nicholas A. Fraser.

Dated: June 12, 2015.
Marcie Lovett,
Records Management Division Director, USPTO, Office of the Chief Information Officer.

[FR Doc. 2015-15116 Filed 6-18-15; 8:45 am]

BILLING CODE 3510-16-P